DEPARTMENT OF ENERGY

Federal Energy Regulatory Commission

[Project No. 12555-004]

Mahoning Creek Hydroelectric Company, LLC; Notice of Application Tendered for Filing With the Commission and Establishing Procedural Schedule for Licensing and Deadline for Submission of Final Amendments

August 4, 2009.

Take notice that the following hydroelectric application has been filed with the Commission and is available for public inspection.

a. Type of Application: Original Major License.

b. Project No.: 12555-004.

c. Date Filed: July 27, 2009.

d. Applicant: Mahoning Creek Hydroelectric Company, LLC.

e. Name of Project: Mahoning Creek Hydroelectric Project.

f. Location: On Mahoning Creek in Armstrong County, Pennsylvania. The proposed project would occupy Federal land managed by the U.S. Army Corps of Engineers.

g. Filed Pursuant to: Federal Power Act 16 U.S.C. 791 (a)-825(r).

h. Applicant Contact: M. Clifford Phillips, Vice President, Mahoning Creek Hydroelectric Company, LLC, 150 North Miller Road, Suite 450 C, Fairlawn, OH 44333, (330) 869-8451.

i. FERC Contact: Thomas Dean, (202) 502-6041.

j. This application is not ready for environmental analysis at this time.

k. The proposed Mahoning Creek Project would use the U.S. Army Corps of Engineers' (Corps) Mahoning Creek dam and would consist of: (1) A new 50-foot-high intake structure attached to the upstream face of the dam, equipped with removable trashracks, dewatering bulkhead panels, and a vertical slide gate; (2) a new lining on the existing (currently plugged), 108-inch-diameter conduit through dam monolith 15; (3) a new 1,090-foot-long, 120-inch-diameter penstock on the left (south) bank, bifurcating into two new 110-foot-long, 96-inch-diameter penstocks; (4) a new powerhouse located approximately 100 feet downstream of an existing stilling basin weir containing two new Kaplan turbine/generator units with a total installed capacity of 6.0 MW; (5) a new 40-foot-wide, 150-foot-long, 10-foot-deep tailrace; (6) a new 2.2-mile-long, 25-kilovolt transmission line; (7) a new 100-foot-long bridge to span a small stream to the entrance of a refurbished 0.5-mile-long access road; and (8) appurtenant facilities. The project would have an estimated annual generation of 20,000 megawatt-hours.

The project would operate using flows released by the Corps in accordance with the current dam operation as set by the Corps.

l. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

m. You may also register online at http://www.ferc.gov/docs-filing/esubscription.asp to be notified via e-mail of new filings and issuances related to this or other pending projects. For assistance, contact FERC Online Support.

n. Procedural Schedule: The application will be processed according to the following Hydro Licensing Schedule. The Commission staff proposes to issue a single Environmental Assessment (EA) rather than issuing a draft and final EA. The schedule allows 30 days for entities to comment on the EA, and 60 days for agencies to file modified mandatory terms and conditions. Staff will take into consideration all comments and terms and conditions received on the EA before final action is taken on the license application. Revisions to the schedule may be made as appropriate.

Milestone | Target date
Notice of Acceptance and Ready for Environmental Analysis | September 25, 2009.
Filing interventions, comments, recommendations, preliminary terms and conditions, and fishway prescriptions | November 24, 2009.
Notice of availability of the EA | March 24, 2010.
Filing comments on EA | April 23, 2010.
Filing modified terms and conditions | June 22, 2010.

o. Final amendments to the application must be filed with the Commission no later than 30 days from the issuance date of the notice of ready for environmental analysis.

Nathaniel J. Davis, Sr.,
Deputy Secretary.

[FR Doc. E9-19136 Filed 8-10-09; 8:45 am]

BILLING CODE 6717-01-P